DEPARTMENT OF THE INTERIOR

Geological Survey

[GX12GB009PAMR00]

Agency Information Collection Activities: Submitted for Office of Management and Budget (OMB) Review; Comment Request

AGENCY: U.S. Geological Survey (USGS), Interior.

ACTION: Notice of an extension of an Information Collection (1028-0089), Mineral Resources Program's (MRP) Mineral Resource External Research Program (MRERP).

SUMMARY: To comply with the Paperwork Reduction Act of 1995 (PRA), we are notifying the public that we have submitted to the Office of Management and Budget (OMB) an information collection request (ICR) for renewal of the currently approved paperwork requirements for the Mineral Resources Program's (MRP) Mineral Resource External Research Program (MRERP). This notice provides the public and other Federal agencies an opportunity to comment on the paperwork burden of these project narrative and report requirements. This collection is scheduled to expire on August 31, 2012.

DATES: You must submit comments on or before August 27, 2012.

ADDRESSES: Please submit comments on this information collection directly to the Office of Management and Budget (OMB) Office of Information and Regulatory Affairs, Attention: Desk Officer for the Department of Interior via email [OIRA_DOCKET@omb.eop.gov]; or fax (202) 395-5806; and identify your submission as 1028-0089.

Please also submit a copy of your comments to the USGS Information Collection Clearance Officer, 12201 Sunrise Valley Drive, Mail Stop 807, Reston, VA 20192 (mail); 703-648-7199 (fax); or smbaloch@usgs.gov (email); and reference Information Collection 1028-0089 in the subject line.

FOR FURTHER INFORMATION CONTACT: To request additional information about this ICR, contact Jeff L. Doebrich by mail at U.S. Geological Survey, 913 National Center, Sunrise Valley Drive, Reston, VA 20192 or by telephone at 703-648-6103.

SUPPLEMENTARY INFORMATION:

Title: Mineral Resource External Research Program (MRERP).

OMB Control Number: 1028-0089.

Form Number: None.

Abstract: Through the MRERP, the MRP of the USGS offers an annual competitive grant and/or cooperative agreement opportunity to universities, State agencies, Tribal governments or organizations, and industry or other private sector organizations. Applicants must have the ability to conduct research in topics related to nonfuel mineral resources and that meet the goals of the MRP. The MRERP will consider all research-based proposals that address one of the long-term goals of the Mineral Resources Program, as defined in the current USGS Energy and Minerals Science Strategy (http://pubs.usgs.gov/of/2012/1072/of2012-1072.pdf). These are: (1) Understand fundamental Earth processes forming mineral resources, (2) understand the environmental behavior of mineral resources and their waste products, (3) provide inventories and assessments of mineral resources, (4) understand the effects of mineral development on natural resources, and (5) understand the availability and reliability of mineral resource supplies. Furthermore, annual research priorities are provided as guidance for applicants to consider when submitting proposals. Annual research priorities are determined by USGS MRP management. Since its initiation in 2004, the MRERP has awarded more than $2.8 million to 48 different research projects across the country.

We will protect information from respondents considered proprietary under the Freedom of Information Act (5 U.S.C. 552) and implementing regulations (43 CFR Part 2), and under regulations at 30 CFR 250.197, “Data and information to be made available to the public or for limited inspection.” Responses are voluntary. No questions of a “sensitive” nature are asked. We intend to release the project abstracts and primary investigators for awarded/funded projects only.

Frequency: Annually.

Estimated Annual Number and Description of Respondents: Approximately 35 research scientists from universities, State agencies, Tribal governments or organizations, and industry or other private sector organizations.

Estimated Total Number of Annual Responses: 40.

Estimated Annual Burden Hours: 1580.

Estimated Annual Reporting and Recordkeeping “Hour” Burden: We expect to receive approximately 35 applications, each taking the applicant approximately 40 hours to complete. This includes the time for project conception and development, proposal writing and reviewing, and submitting proposal narrative through Grants.gov (totaling 1,400 burden hours). We anticipate awarding an average of 5 grants per year. The award recipients must submit a final technical report. We estimate that it will take approximately 36 hours to complete and submit each report (totaling 180 hours).

Estimated Reporting and Recordkeeping “Non-Hour Cost” Burden: There are no “non-hour cost” burdens associated with this collection of information.

Public Disclosure Statement: The PRA (44 U.S.C. 3501, et seq.) provides that an agency may not conduct or sponsor a collection of information unless it displays a currently valid OMB control number. Until OMB approves a collection of information, you are not obligated to respond.

Comments: To comply with the public consultation process, on April 27, 2012 we published a Federal Register notice (77 FR 25193) announcing our intent to submit this information collection to OMB for approval. In that notice we solicited public comments for 60 days, ending on June 26, 2012. We did not receive any public comments in response to the notice.

We again invite comments concerning this information collection on: (1) Whether or not the collection of information is necessary, including whether or not the information will have practical utility; (2) the accuracy of our estimate of the burden for this collection of information; (3) ways to enhance the quality, utility, and clarity of the information to be collected; and (4) ways to minimize the burden of the collection of information on respondents.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 16, 2012.
Ione Taylor,
Associate Director, Energy and Minerals, and Environmental Health.

[FR Doc. 2012-18264 Filed 7-25-12; 8:45 am]

BILLING CODE 4311-AM-P